ENVIRONMENTAL PROTECTION AGENCY

[OPP-2002-0268; FRL-7276-6]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by April 14, 2003, or unless indicated otherwise, orders will be issued canceling all of these registrations. Comments on EPA Registration Numbers 000655-00741, 000655-00742, 001812-00354, 001812-00448, 009688-00131, and 034911-00027 must be received by November 15, 2002.

FOR FURTHER INFORMATION CONTACT: James A. Hollins, Information Resources Services Division (7502C), Office of Pesticide Programs, Environmental Protection Agency, 1200 Pennsylvania Ave., NW., Washington, DC 20460-0001; telephone number: (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket ID number OPP-2002-0268. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from registrants to cancel 33 pesticide products registered under section 3 or 24(c) of FIFRA. These registrations are listed in sequence by registration number (or company number and 24(c) number) in the following Table 1 of this unit:

Table 1.—Registrations with Pending Requests for Cancellation
Registration Number | Product Name | Chemical Name
000100 OR-02-0016 | Cyclone Concentrate/Gramoxone Max | 1,1'-Dimethyl-4,4'-bipyridinium dichloride
000100 WA-02-0018 | Cyclone Concentrate/Gramoxone Max | 1,1'-Dimethyl-4,4'-bipyridinium dichloride
000352 AZ-01-0001 | Dupont Staple Herbicide | Sodium 2-chloro-6-(4,6-dimethoxypyrimidin-2-ylthio)benzoate
000352 AZ-01-0002 | Dupont PE 350/MON B In B Herbicide | Sodium 2-chloro-6-(4,6-dimethoxypyrimidin-2-ylthio)benzoate Isopropylamine glyphosate (N-(phosphonomethyl)glycine)
000524-00476 | Harness Plus Herbicide | 2'-Ethyl-6'-methyl-N-(ethoxymethyl)-2-chloroacetanilide
000655-00741 | Prentox Methoxychlor 50W | Methoxychlor (2,2-bis(p-methoxyphenyl)-1,1,1-trichloroethane)
000655-00742 | Prentox 2 Lb. Methoxychlor Spray | Methoxychlor (2,2-bis(p-methoxyphenyl)-1,1,1-trichloroethane)
001812-00351 | Pro-Tex | Manganese ethylenebis(dithiocarbamate) Triphenyltin hydroxide
001812-00354 | Indoor Roach Bait | 1-Octanesulfonamide, N-ethyl-1,1,2,2,3,3,4,4,5,5,6,6,7,7,8,8,8-heptadecafluoro-
001812-00448 | Finitron Brand Sulfuramid RB MUP | 1-Octanesulfonamide, N-ethyl-1,1,2,2,3,3,4,4,5,5,6,6,7,7,8,8,8-heptadecafluoro-
003008-00069 | Bardec Part I | Arsenic acid
003008-00070 | Bardec Part 2 | Cuprous oxide
003008-00071 | Bardec Part 3 | Zinc oxide
003125-00102 | Guthion 2l Emulsifiable Insecticide | O,O-Dimethyl S-((4-oxo-1,2,3-benzotriazin-3(4H)-yl)methyl) phosphorodithioate
004691-00157 | Commando Insecticide Cattle Ear Tag | O,O,O',O'-Tetraethyl S,S'-methylene bis(phosphorodithioate)
008177-00073 | Enterprise Clear Wood Preservative | 3-Iodo-2-propynyl butylcarbamate
009688-00131 | Chemsico Roach Control System CS | O,O-Diethyl O-(3,5,6-trichloro-2-pyridyl) phosphorothioate 1-Octanesulfonamide, N-ethyl-1,1,2,2,3,3,4,4,5,5,6,6,7,7,8,8,8-heptadecafluoro-
010163-00166 | Imidan 50-WP Agricultural Insecticide | N-(Mercaptomethyl)phthalimide S-(O,O-dimethyl phosphorodithioate)
010163-00170 | Imidan 12.5-WP Home Garden Insecticide | N-(Mercaptomethyl)phthalimide S-(O,O-dimethyl phosphorodithioate)
010163-00173 | Imidan 1-E Home Garden Insecticide | N-(Mercaptomethyl)phthalimide S-(O,O-dimethyl phosphorodithioate)
010163-00227 | Prolate Technical Livestock Insecticide | N-(Mercaptomethyl)phthalimide S-(O,O-dimethyl phosphorodithioate)
034704-00691 | Clean Crop Sniper 2-E Azinphos Methyl Insecticide | O,O-Dimethyl S-((4-oxo-1,2,3-benzotriazin-3(4H)-yl)methyl) phosphorodithioate
034704 OR-88-0014 | Clean Crop Cheat Stop 90 WDG | 2-Chloro-4-(ethylamino)-6-(isopropylamino)-s-triazine
034704 WA-88-0019 | Clean Crop Cheat Stop 90 WDG | 2-Chloro-4-(ethylamino)-6-(isopropylamino)-s-triazine
034911-00027 | Hi-Yield Benomyl Systemic Fungicide | Methyl 1-(butylcarbamoyl)-2-benzimidazolecarbamate
045385-00087 | Cenol Dairy Cattle Spray | Dipropyl isocinchomeronate N-Octyl bicycloheptene dicarboximide (Butylcarbityl)(6-propylpiperonyl) ether 80% and related compounds 20% Pyrethrins
051036-00073 | Dibrom 8EC | 1,2-Dibromo-2,2-dichloroethyl dimethyl phosphate
059639 GA-99-0001 | Select Herbicide | 2-Cyclohexen-1-one, 2-(1-(((3-chloro-2-propenyl)oxy)imino)propyl)-5-(2-
059639 WA-89-0026 | Orthene 75 S Soluble Powder | O,S-Dimethyl acetylphosphoramidothioate
062190-00005 | Wolmanac Concentrate 70% | Arsenic pentoxide Chromic acid Cupric oxide
062190-00011 | CCA Type C 50% Chromated Copper Arsenate | Arsenic pentoxide Chromic acid Cupric oxide
066222-00016 | Cotnion-Methyl Azinphos Methyl 2EC | O,O-Dimethyl S-((4-oxo-1,2,3-benzotriazin-3(4H)-yl)methyl) phosphorodithioate
070171-00004 | Ioblend - 20 | Nonylphenoxypolyethoxyethanol - iodine complex

Unless a request is withdrawn by the registrant within the 180 or 30-day comment period, orders will be issued canceling all of these registrations. Users of these pesticides or anyone else desiring the retention of a registration should contact the applicable registrant directly during either of these comment periods.

Registrations 001812-00448, Finitron Brand Sulfluramid RB MUP, 001812-00354, Indoor Roach Bait, and 009688-00131, Chemsico Roach Control System CS are registrations for which the terms and conditions for cancellation and disposition of existing stocks were previously agreed to between EPA, Griffin L.L.C. and Chemsico and expressed in the July 9, 2001 Registration/Amendment Notices for these products. Thus, EPA intends to grant Griffin and Chemsico's request for voluntary cancellation of these registrations on December 31, 2002. Griffin and Chemsico have waived the 180-day comment period provided for in FIFRA section 6(f). The comment period will be the required 30 days from notice in the Federal Register. After the registrations are canceled, EPA will permit Griffin to sell and distribute Registration 001812-00448, Finitron Brand Sulfluramid RB MUP until July 25, 2003, and Registration 001812-00354, Indoor Roach Bait until December 31, 2003, and permit Chemisco to sell and distribute Registration 009688-0013, Chemsico Roach Control System CS until December 31, 2003.

Table 2 of this unit includes the names and addresses of record for all registrants of the products in Table 1 of this unit, in ascending sequence by EPA company number:

Table 2—Registrants Requesting Voluntary Cancellation
EPA Company Number | Company Name and Address
000100 | Syngenta Crop Protection, Inc. Box 18300 Greensboro, NC 27419
000352 | E. I. Du Pont De Nemours and Company Dupont Crop Protection Stine-Haskell Research Center S300 Box 30 Newark, DE 19714
000524 | Monsanto Company Agent For: Monsanto Company 600 13th Street, NW., Suite 660 Washington, DC 20005
000655 | Prentiss Inc. C.B. 2000 Floral Park, NY 11001
001812 | Griffin L.L.C. Box 1847 Valdosta, GA 31603
003008 | Osmose Inc. 980 Ellicott Street Buffalo, NY 14209
003125 | Bayer Corp. Agriculture Division 8400 Hawthorn Rd., Box 4913 Kansas City, MO 64120
004691 | Boehringer Ingelheim Vetmedica, Inc. 15th & Oak Streets, Way, Box 338 Elwood, KS 66024
008177 | Valspar Corp. 1101 Third Street South Minneapolis, MN 55415
009688 | Chemsico, Division of United Industries Corp. Box 142642 St Louis, MO 63114
010163 | Gowan Company Box 5569 Yuma, AZ 85366
034704 | Jane Cogswell Agent For: Platte Chemical Co. Inc. Box 667 Greeley, CO 80632
034911 | Brazos Associates, Inc. Agent For: Hi-Yield Chemical Co. 2001 Diamond Ridge Drive Carrollton, TX 75010
045385 | CTX-Cenol, Inc. Box 472 Twinsburg, OH 44087
051036 | Micro-Flo Co. LLC Box 772099 Memphis, TN 38117
059639 | Valent U.S.A. Corp. 1333 N. California Blvd, Suite 600 Walnut Creek, CA 94596
062190 | Arch Wood Protection, Inc. 1955 Lake Park Drive, Suite 250 Smyrna, GA 30080
066222 | Makhteshim-Agan of North America Inc. 551 Fifth Avenue Suite 1100 New York, NY 10176
070171 | Unicore Technologies Inc. Box 3877 Turlock, CA 95381

III. Loss of Active Ingredients

Unless the request for cancellation is withdrawn, the pesticide active ingredient listed in Table 3 below will no longer appear in any registered products. Those who are concerned about the potential loss of this active ingredient for pesticidal use are encouraged to work directly with the registrant to explore the possibility of the registrant withdrawing the request for cancellation. The active ingredient is listed in the following Table 3, with EPA company number and chemical name.

Table 3—Active Ingredient Disappearing as a Result of Registrant's Request to Cancel
EPA Company Number | Company Name and Address
034911 | Benomyl

IV. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

V. Procedures for Withdrawal of Request

Registrants who choose to withdraw a request for cancellation must submit such withdrawal in writing to the person listed under FOR FURTHER INFORMATION CONTACT, postmarked before either of the comment periods listed under DATES. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

VI. Provisions for Disposition of Existing Stocks

The effective date of cancellation will be the date of the cancellation order. The orders effecting these requested cancellations will generally permit a registrant to sell or distribute existing stocks for 1-year after the date the cancellation request was received. This policy is in accordance with the Agency's statement of policy as prescribed in the Federal Register of June 26, 1991 (56 FR 29362) (FRL-3846-4). Exceptions to this general rule will be made if a product poses a risk concern, or is in noncompliance with reregistration requirements, or is subject to a Data-Call-In. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: September 30, 2002.
Lind Vlier Moos,
Acting Director, Information Resources Services Division, Office of Pesticide Programs.

[FR Doc. 02-26177 Filed 10-15-02; 8:45 am]

BILLING CODE 6560-50-S